DEPARTMENT OF COMMERCE

International Trade Administration

[C-552-824]

Laminated Woven Sacks From the Socialist Republic of Vietnam: Initiation of Countervailing Duty Investigation

AGENCY: Enforcement and Compliance, International Trade Administration, Department of Commerce.

DATES: Applicable April 3, 2018.

FOR FURTHER INFORMATION CONTACT: Thomas Martin or Maisha Cryor, AD/CVD Operations, Office IV, Enforcement and Compliance, International Trade Administration, U.S. Department of Commerce, 1401 Constitution Avenue NW, Washington, DC 20230; telephone: (202) 482-3936 or (202) 482-5831, respectively.

SUPPLEMENTARY INFORMATION:

The Petition

On March 7, 2018, the U.S. Department of Commerce (Commerce) received a countervailing duty (CVD) Petition concerning imports of laminated woven sacks (LWS) from the Socialist Republic of Vietnam (Vietnam), filed in proper form on behalf of the Laminated Woven Sacks Fair Trade Coalition and its individual members Polytex Fibers Corporation and ProAmpac Holdings Inc., (collectively, the petitioners).¹ The CVD Petition was accompanied by an antidumping (AD) Petition concerning imports of laminated woven sacks from Vietnam. The petitioners are domestic producers of LWS.²

¹ See Letter to the Secretary of Commerce “Petitions for the Imposition of Antidumping and Countervailing Duties on Laminated Woven Sacks from the Socialist Republic of Vietnam (March 7, 2018) (the Petition).

² See Volume I of the Petition, at 3 and Exhibit I-3.

On March 12, 16, and 26, 2018, Commerce requested supplemental information pertaining to certain areas of the Petition.³ The petitioners filed responses to these requests on March 14, 2018,⁴ March 15, 2018,⁵ March 19, 2018, ⁶ and March 27, 2018.⁷ On March 23, 2018, Commerce held consultations with respect to the Petition with the Government of Vietnam (GOV).⁸

³ See Commerce Letter re: “Petitions for the Imposition of Antidumping and Countervailing Duties on Imports of Laminated Woven Sacks from the Socialist Republic of Vietnam: Supplemental Questions,” dated March 12, 2018; see also Commerce Letter re: “Petition for the Imposition of Antidumping Duties on Imports of Laminated Woven Sacks from the Socialist Republic of Vietnam: Supplemental Questions,” dated March 12, 2018. See also Memorandum, “Petitions for the Imposition of Antidumping and Countervailing Duties on Laminated Woven Sacks from the Socialist Republic of Vietnam, Phone Call with Counsel to the Petitioners,” dated March 16, 2018. See also Memorandum, “Petitions for the Imposition of Antidumping and Countervailing Duties on Laminated Woven Sacks from the Socialist Republic of Vietnam, Phone Call with Counsel to the Petitioners,” dated March 26, 2018.

⁴ See Petitioners' Letter, “Investigation of Laminated Woven Sacks From the Socialist Republic of Vietnam: Petitioners' Responses to Supplemental Questions Relating to Volume I: General Issues,” dated March 14, 2018 (General Issues Supplement).

⁵ See Letter from the petitioners, “Investigation of Laminated Woven Sacks From the Socialist Republic of Vietnam: Petitioners' Responses to Supplemental Questions Relating to Volume III: Countervailing Duties,” dated March 15, 2018 (CVD Supplement).

⁶ See Petitioners' Letter, “Investigation of Laminated Woven Sacks From the Socialist Republic of Vietnam: Petitioners' Responses to Second Supplemental Questions Relating to Volume I: General Issues,” dated March 19, 2018 (Second General Issues Supplement).

⁷ See Petitioners' Letter, “Investigation of Laminated Woven Sacks From the Socialist Republic of Vietnam: Petitioners' Responses to Second Supplemental Questions Relating to Volume I: General Issues,” dated March 27, 2018 (Third General Issues Supplement).

⁸ See Memorandum, “Consultations with Officials from the Government of Vietnam (GOV) Regarding the Countervailing Duty (CVD) Petition on Laminated Woven Sacks from Vietnam,” dated March 26, 2018.

In accordance with section 702(b)(1) of the Tariff Act of 1930, as amended (the Act), the petitioners allege that the GOV is providing countervailable subsidies, within the meaning of sections 701 and 771(5) of the Act, to producers of LWS in Vietnam, and imports of such products are materially injuring, or threatening material injury to, the domestic industry producing LWS in the United States. Consistent with section 702(b)(1) of the Act and 19 CFR 351.202(b), for those alleged programs on which we are initiating a CVD investigation, the Petition is accompanied by information reasonably available to the petitioners supporting their allegations.

Commerce finds that the petitioners filed this Petition on behalf of the domestic industry because the petitioners are an interested party as defined in section 771(9)(C), (E) and (F) of the Act. Commerce also finds that the petitioners demonstrated sufficient industry support with respect to the initiation of the CVD investigation that the petitioners are requesting.⁹

⁹ See “Determination of Industry Support for the Petition” section, below.

Period of Investigation

Because the Petition was filed on March 7, 2018, the period of investigation is January 1, 2017, through December 31, 2017.

Scope of the Investigation

The products covered by this investigation are LWS from Vietnam. For a full description of the scope of this investigation, see the “Scope of the Investigation,” in the Appendix to this notice.

Comments on Scope of the Investigation

During our review of the Petition, Commerce issued questions to, and received responses from, the petitioners pertaining to the proposed scope to ensure that the scope language in the Petition would be an accurate reflection of the products for which the domestic industry is seeking relief.¹⁰ Commerce also held two conference calls with the petitioners regarding the scope language.¹¹ As a result of these exchanges, the scope of the Petition was modified to clarify the description of merchandise covered by the Petition.¹² The description of the merchandise covered by this initiation, as described in the Appendix to this notice, reflects these clarifications.

¹⁰ See General Issues 2-5.

¹¹ See Memorandum, “Petitions for the Imposition of Antidumping and Countervailing Duties on Laminated Woven Sacks from the Socialist Republic of Vietnam, Phone Call with Counsel to the Petitioners,” dated March 16, 2018; see also Memorandum, “Petitions for the Imposition of Antidumping and Countervailing Duties on Laminated Woven Sacks from the Socialist Republic of Vietnam, Phone Call with Counsel to the Petitioners,” dated March 26, 2018.

¹² See Second General Issues Supplement; see also, Third General Issues Supplement.

As discussed in the Preamble to Commerce's regulations, we are setting aside a period for interested parties to raise issues regarding product coverage (scope).¹³ Commerce will consider all comments received from interested parties and, if necessary, will consult with interested parties prior to the issuance of the preliminary determination. If scope comments include factual information, all such factual information should be limited to public information.¹⁴ To facilitate preparation of its questionnaires, Commerce requests all interested parties submit such comments by 5:00 p.m. Eastern Time (ET) on Monday April 16, 2018, which is 20 calendar days from the signature date of this notice. Any rebuttal comments, which may include factual information, must be filed by 5:00 p.m. ET on Thursday April 26, 2018, which is 10 calendar days from the initial comments deadline.¹⁵

¹³ See Antidumping Duties; Countervailing Duties, Final Rule, 62 FR 27296, 27323 (May 19, 1997) (Preamble).

¹⁴ See 19 CFR 351.102(b)(21) (defining “factual information”).

¹⁵ See 19 CFR 351.303(b).

Commerce requests that any factual information the parties consider relevant to the scope of the investigation be submitted during this time period. However, if a party subsequently finds that additional factual information pertaining to the scope of the investigation may be relevant, the party may contact Commerce and request permission to submit the additional information. All such submissions must be filed on the records of the concurrent AD and CVD investigations of LWS from Vietnam.

Filing Requirements

All submissions to Commerce must be filed electronically using Enforcement and Compliance's Antidumping Duty and Countervailing Duty Centralized Electronic Service System (ACCESS).¹⁶ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹⁶ See Antidumping and Countervailing Duty Proceedings: Electronic Filing Procedures; Administrative Protective Order Procedures, 76 FR 39263 (July 6, 2011). See also Enforcement and Compliance: Change of Electronic Filing System Name, 79 FR 69046 (November 20, 2014) for details of Commerce's electronic filing requirements, which went into effect on August 5, 2011. Information on help using ACCESS can be found at https://access.trade.gov/ help.aspx, and a handbook can be found at https://access.trade.gov/help/Handbook%20on%20Electronic%20Filling%20Procedures.pdf.

Consultations

Pursuant to sections 702(b)(4)(A)(i) and (ii) of the Act, Commerce notified representatives of the GOV of the receipt of the CVD Petition, and provided them with an opportunity for consultations with respect to the Petition.¹⁷ In response to Commerce's invitation, the GOV met with Commerce officials on March 23, 2018.

¹⁷ See Letter from Robert Bolling, Acting Director, AD/CVD Operations, Office IV, Enforcement and Compliance, to the Embassy of Vietnam “Countervailing Duty Petition on Laminated Woven Sacks from Vietnam: Invitation for Consultations to Discuss the Countervailing Duty Petition,” dated March 8, 2018.

Determination of Industry Support for the Petition

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁸ they do so for different purposes and pursuant to a separate and distinct authority. In addition, Commerce's determination is subject to limitations of time and information. Although this may result in different definitions of the like product, such differences do not render the decision of either agency contrary to law.¹⁹

¹⁸ See section 771(10) of the Act.

¹⁹ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petition).

With regard to the domestic like product, the petitioners do not offer a definition of the domestic like product distinct from the scope of the Petition. Based on our analysis of the information submitted on the record, we have determined that LWS, as defined in the scope, constitute a single domestic like product and we have analyzed industry support in terms of that domestic like product.²⁰

²⁰ For a discussion of the domestic like product analysis, see Countervailing Duty Investigation Initiation Checklist: Laminated Woven Sacks from the Socialist Republic of Vietnam (Vietnam CVD Initiation Checklist), at Attachment II, Analysis of Industry Support for the Antidumping and Countervailing Duty Petitions Covering Laminated Woven Sacks from the Socialist Republic of Vietnam (Attachment II). This checklist is dated concurrently with, and hereby adopted by, this notice and on file electronically via ACCESS. Access to documents filed via ACCESS is also available in the Central Records Unit, Room B8024 of the main Department of Commerce building.

In determining whether the petitioners have standing under section 702(c)(4)(A) of the Act, we considered the industry support data contained in the Petition with reference to the domestic like product as defined in the “Scope of the Investigation,” in the Appendix to this notice. To establish industry support, the petitioners provided their shipments of the domestic like product in 2017, and compared these shipments to the estimated total shipments of the domestic like product for the entire domestic industry.²¹ Because total industry production data for the domestic like product for 2017 are not reasonably available to the petitioners, and the petitioners have established that shipments are a reasonably proxy for production data,²² we have relied on the data the petitioners provided for purposes of measuring industry support.²³

²¹ See Second General Issues Supplement, at 1 and Exhibit I-2S1.

²² See General Issues Supplement, at 7 and Exhibit I-S3.

²³ Id.; see also Second General Issues Supplement, at 1 and Exhibit I-2S1. For further discussion, see Vietnam CVD Initiation Checklist, at Attachment II.

Our review of the data provided in the Petition, the General Issues Supplement, the Second General Issues Supplement, the CVD Supplement, and other information readily available to Commerce, indicates that the petitioners have established industry support for the Petition.²⁴ First, the Petition established support from domestic producers (or workers) accounting for more than 50 percent of the total production of the domestic like product and, as such, Commerce is not required to take further action in order to evaluate industry support (e.g., polling).²⁵ Second, the domestic producers (or workers) have met the statutory criteria for industry support under section 702(c)(4)(A)(i) of the Act because the domestic producers (or workers) who support the Petition account for at least 25 percent of the total production of the domestic like product.²⁶ Finally, the domestic producers (or workers) have met the statutory criteria for industry support under section 702(c)(4)(A)(ii) of the Act because the domestic producers (or workers) who support the Petition account for more than 50 percent of the production of the domestic like product produced by that portion of the industry expressing support for, or opposition to, the Petition.²⁷ Accordingly, Commerce determines that the Petition was filed on behalf of the domestic industry within the meaning of section 702(b)(1) of the Act.

²⁴ See Vietnam CVD Initiation Checklist, at Attachment II.

²⁵ See section 702(c)(4)(D) of the Act; see also Vietnam CVD Initiation Checklist, at Attachment II.

²⁶ See Vietnam CVD Initiation Checklist, at Attachment II.

²⁷ Id.

Commerce finds that the petitioners filed the Petition on behalf of the domestic industry because they are interested parties as defined in sections 771(9)(C), (E), and (F) of the Act, and they have demonstrated sufficient industry support with respect to the CVD investigation that they are requesting that Commerce initiate.²⁸

²⁸ Id.

Injury Test

Because Vietnam is a “Subsidies Agreement Country” within the meaning of section 701(b) of the Act, section 701(a)(2) of the Act applies to this investigation. Accordingly, the ITC must determine whether imports of the subject merchandise from Vietnam materially injure, or threaten material injury to, a U.S. industry.

Allegations and Evidence of Material Injury and Causation

The petitioners allege that imports of the subject merchandise are benefitting from countervailable subsidies and that such imports are causing, or threaten to cause, material injury to the U.S. industry producing the domestic like product. In addition, the petitioners allege that subject imports exceed the negligibility threshold provided for under section 771(24)(A) of the Act.²⁹

²⁹ See Volume I of the Petition, at Exhibit I-7; see also General Issues Supplement, at 9.

The petitioners contend that the industry's injured condition is illustrated by a significant and increasing volume of subject imports; reduced market share; underselling and price depression or suppression; lost sales and revenues; and a decline in U.S. shipments, capacity utilization, production, and financial performance.³⁰ We have assessed the allegations and supporting evidence regarding material injury, threat of material injury, and causation, and we have determined that these allegations are properly supported by adequate evidence, and meet the statutory requirements for initiation.³¹

³⁰ See Volume I of the Petition, at 14-25 and Exhibits I-7 through I-9; see also General Issues Supplement, at 1, 9 and Exhibits I-S6 and I-S7.

³¹ See Vietnam CVD Initiation Checklist, at Attachment III, Analysis of Allegations and Evidence of Material Injury and Causation for the Antidumping and Countervailing Duty Petitions Covering Laminated Woven Sacks from the Socialist Republic of Vietnam (Attachment III).

Initiation of CVD Investigation

Based upon our examination of the Petition, we find that the Petition meets the requirements of section 702 of the Act. Specifically, we find that there is sufficient information to initiate a CVD investigation on 19 alleged programs. Therefore, we are initiating a CVD investigation to determine whether imports of LWS from Vietnam benefit from countervailable subsidies conferred by the GOV. For a full discussion of the basis for our decision to initiate on each program, see Vietnam CVD Initiation Checklist. A public version of the initiation checklist for this investigation is available on ACCESS. In accordance with section 703(b)(1) of the Act and 19 CFR 351.205(b)(1), unless postponed, we will make our preliminary determination no later than 65 days after the date of this initiation.

Under the Trade Preferences Extension Act of 2015, numerous amendments to the AD and CVD laws were made.³² The 2015 law does not specify dates of application for those amendments. On August 6, 2015, Commerce published an interpretative rule, in which it announced the applicability dates for each amendment to the Act, except for amendments contained in section 771(7) of the Act, which relate to determinations of material injury by the ITC.³³ The amendments to sections 776 and 782 of the Act are applicable to all determinations made on or after August 6, 2015, and, therefore, apply to this CVD investigation.³⁴

³² See Trade Preferences Extension Act of 2015, Pub. L. 114-27, 129 Stat. 362 (2015). See also Dates of Application of Amendments to the Antidumping and Countervailing Duty Laws Made by the Trade Preferences Extension Act of 2015, 80 FR 46793 (August 6, 2015) (Applicability Notice). The 2015 amendments may be found at https://www.congress.gov/bill/114th-congress/house-bill/1295/text/pl.

³³ See Dates of Application of Amendments to the Antidumping and Countervailing Duty Laws Made by the Trade Preferences Extension Act of 2015, 80 FR 46793 (August 6, 2015).

³⁴ See Applicability Notice, 80 FR at 46794-95.

Respondent Selection

The petitioners named 27 producers/exporters of LWS in Vietnam.³⁵ Commerce intends to follow its standard practice in CVD investigations and calculate company-specific subsidy rates in this investigation. In the event Commerce determines that the number of companies is large and it cannot individually examine each company based upon Commerce's resources, where appropriate, Commerce intends to select mandatory respondents based on U.S. Customs and Border Protection (CBP) data for U.S. imports of LWS from Vietnam during the POI under the appropriate Harmonized Tariff Schedule of the United States numbers listed in the “Scope of the Investigation,” in the Appendix to this notice.

³⁵ See Volume I of the Petition at 7 and Exhibit I-5.

On March 16, 2018, Commerce released CBP data under Administrative Protective Order (APO) to all parties with access to information protected by APO and indicated that interested parties wishing to comment regarding the CBP data and respondent selection must do so within three business days of the publication date of the notice of initiation of this CVD investigation.³⁶ Commerce will not accept rebuttal comments regarding the CBP data or respondent selection.

³⁶ See Memorandum from Thomas Martin, Senior International Trade Compliance Specialist, AD/CVD Operations, Office IV, Enforcement and Compliance to Robert Bolling, Program Manager, AD/CVD Operations, Office IV, Enforcement and Compliance “Laminated Woven Sacks from the Socialist Republic of Vietnam Countervailing Duty Petition: Release of Customs Data from U.S. Customs and Border Protection,” dated March 16, 2018.

Interested parties must submit applications for disclosure under APO in accordance with 19 CFR 351.305(b). Instructions for filing such applications may be found on the Commerce's website at http://enforcement.trade.gov/apo.

Comments must be filed electronically using ACCESS. An electronically filed document must be received successfully, in its entirety, by ACCESS no later than 5:00 p.m. ET on the deadline noted above. We intend to finalize our decisions regarding respondent selection within 20 days of publication of this notice.

Distribution of Copies of the Petition

In accordance with section 702(b)(4)(A)(i) of the Act and 19 CFR 351.202(f), a copy of the public version of the Petition has been provided to the GOV via ACCESS. To the extent practicable, we will attempt to provide a copy of the public version of the Petition to each exporter named in the Petition, as provided under 19 CFR 351.203(c)(2).

ITC Notification

We will notify the ITC of our initiation, as required by section 702(d) of the Act.

Preliminary Determination by the ITC

The ITC will preliminarily determine, within 45 days after the date on which the Petition was filed, whether there is a reasonable indication that imports of LWS from Vietnam are materially injuring, or threatening material injury to, a U.S. industry.³⁷ A negative ITC determination will result in the investigation being terminated.³⁸ Otherwise, this investigation will proceed according to statutory and regulatory time limits.

³⁷ See section 703(a)(2) of the Act.

³⁸ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). 19 CFR 351.301(b) requires any party, when submitting factual information, to specify under which subsection of 19 CFR 351.102(b)(21) the information is being submitted ³⁹ and, if the information is submitted to rebut, clarify, or correct factual information already on the record, to provide an explanation identifying the information already on the record that the factual information seeks to rebut, clarify, or correct.⁴⁰ Time limits for the submission of factual information are addressed in 19 CFR 351.301, which provides specific time limits based on the type of factual information being submitted. Interested parties should review the regulations prior to submitting factual information in this investigation.

³⁹ See 19 CFR 351.301(b).

⁴⁰ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.⁴¹ Parties must use the certification formats provided in 19 CFR 351.303(g).⁴² Commerce intends to reject factual submissions if the submitting party does not comply with the applicable revised certification requirements.

⁴¹ See section 782(b) of the Act.

⁴² See also Certification of Factual Information to Import Administration during Antidumping and Countervailing Duty Proceedings, 78 FR 42678 (July 17, 2013) (Final Rule); frequently asked questions regarding the Final Rule, available at http://enforcement.trade.gov/tlei/notices/factual_info_final_rule_FAQ_07172013.pdf.

Notification to Interested Parties

Interested parties must submit applications for disclosure under APO in accordance with 19 CFR 351.305.⁴³

⁴³ On January 22, 2008, Commerce published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)).

This notice is issued and published pursuant to sections 702 and 777(i) of the Act and 19 CFR 351.203(c).

Dated: March 27, 2018.
Gary Taverman,
Deputy Assistant Secretary for Antidumping and Countervailing Duty Operations, performing the non-exclusive functions and duties of the Assistant Secretary for Enforcement and Compliance.

Appendix—Scope of the Investigation

The merchandise covered by this investigation is laminated woven sacks. Laminated woven sacks are bags consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (BOPP), polyester (PET), polyethylene (PE), nylon, or any film suitable for printing, or to an exterior ply of paper; printed; displaying, containing, or comprising three or more visible colors (e.g., laminated woven sacks printed with three different shades of blue would be covered by the scope), not including the color of the woven fabric; regardless of the type of printing process used; with or without lining; with or without handles; with or without special closing features (including, but not limited to, closures that are sewn, glued, easy-open (e.g., tape or thread), re-closable (e.g., slider, hook and loop, zipper), hot-welded, adhesive-welded, or press- to-close); whether finished or unfinished (e.g., whether or not closed on one end and whether or not in roll form, including, but not limited to, sheets, lay-flat, or formed in tubes); not exceeding one kilogram in actual weight. Laminated woven sacks produced in the Socialist Republic of Vietnam are subject to the scope regardless of the country of origin of the fabric used to make the sack.

Subject laminated woven sacks are currently classifiable under Harmonized Tariff Schedule of the United States (HTSUS) subheading 6305.33.0040. If entered with plastic coating on both sides of the fabric consisting of woven polypropylene strip and/or woven polyethylene strip, laminated woven sacks may be classifiable under HTSUS subheadings 3923.21.0080, 3923.21.0095, and 3923.29.0000. If entered not closed on one end or in roll form (including, but not limited to, sheets, lay-flat tubing, and sleeves), laminated woven sacks may be classifiable under other HTSUS subheadings, including 3917.39.0050, 3921.90.1100, 3921.90.1500, and 5903.90.2500. If the polypropylene strips and/or polyethylene strips making up the fabric measure more than 5 millimeters in width, laminated woven sacks may be classifiable under other HTSUS subheadings including 4601.99.0500, 4601.99.9000, and 4602.90.0000. Although HTSUS subheadings are provided for convenience and customs purposes, the written description of the scope is dispositive.

[FR Doc. 2018-06728 Filed 4-2-18; 8:45 am]

BILLING CODE 3510-DS-P